OFFICE OF PERSONNEL MANAGEMENT

Submission for Review: OPM Form 1203-FX (Occupational Questionnaire)

AGENCY: Office of Personnel Management.

ACTION: 30-Day Notice and request for comments.

SUMMARY: The Automated Systems Management Group, Office of Personnel Management (OPM) offers the general public and other Federal agencies the opportunity to comment on a new information collection request (ICR), OPM Form 1203-FX (Occupational Questionnaire).

DATES: Comments are encouraged and will be accepted until July 26, 2017.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street NW., Washington, DC 20503, Attention: Desk Officer for the Office of Personnel Management or sent via electronic mail to oira_submission@omb.eop.gov or faxed to (202) 395-6974.

SUPPLEMENTARY INFORMATION: As required by the Paperwork Reduction Act of 1995, (Pub. L. 104-13, 44 U.S.C. chapter 35) as amended by the Clinger-Cohen Act (Pub. L. 104-106), OPM is soliciting comments for this collection. The information collection was previously published in the Federal Register (82 FR 15243) on March 27, 2017, allowing for a 60-day public comment period. This process was conducted in accordance with 5 CFR 1320.1. No comments were received for this information collection (OMB No. 3206-0040). The purpose of this notice is to allow an additional 30 days for public comments.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The Occupational Questionnaire is an optical scan form designed to collect applicant information and qualifications in a format suitable for automated processing and to create applicant records for an automated examining system. The 1203 series was commonly referred to as the “Qualifications and Availability Form C.” OPM re-titled the series as “Occupational Questionnaire” to fit a more generic need. OPM uses this form to carry out its responsibility for open competitive examining for admission to the competitive service in accordance with Section 3304, Title 5, United States Code. One change has been made to the form under Section 14, Veterans' Preference. The addition of Sole Survivorship Preference was added to reflect the amended eligibility categories for veterans' preference per Public Law 110-317, the Hubbard Act. Subparagraph (H) established the new category for veterans released or discharged from a period of active duty from the armed forces, after August 29, 2008, by reason of a “sole survivorship discharge.”

Analysis

Agency: Automated Systems Management Group, Office of Personnel Management.

Title: Occupational Questionnaire, OPM Form 1203-FX.

OMB Number: 3206-0040.

Affected Public: Individuals or households.

Number of Respondents: approximately 11,400,000.

Estimated Time per Respondent: 40 minutes.

Total Burden Hours: 7,600,000 hours.

U.S. Office of Personnel Management.
Kathleen M. McGettigan,
Acting Director.

[FR Doc. 2017-13310 Filed 6-23-17; 8:45 am]

BILLING CODE 6325-43-P